DEPARTMENT OF TRANSPORTATION

Federal Highway Administration

Environmental Impact Statement; Douglas and Franklin Counties, KS

AGENCY: Federal Highway Administration (FHWA), DOT.

ACTION: Notice of intent.

SUMMARY: The FHWA is issuing this notice to advise the public that an environmental impact statement will be prepared for a proposed highway project on U.S. Highway 59 in Douglas and Franklin Counties, Kansas.

FOR FURTHER INFORMATION CONTACT: Kurt C. Dunn, P.E., Engineering Services Team Leader, Federal Highway Administration, 3300 South Topeka Boulevard, Suite 1, Topeka, Kansas 66611-2237, Telephone: (785) 267-7281; Warren L. Sick, Assistant Secretary and State Transportation Engineer, Kansas Department of Transportation, 915 Harrison, Topeka, Kansas 66612, Telephone (785) 296-3285.

SUPPLEMENTARY INFORMATION:

Electronic Access

An electronic copy of this document may be downloaded using a modem and suitable communications software from the Government Printing Office's Electronic Bulletin Board Service at (202) 512-1661. Internet users may reach the Federal Register home page at: http://www.nara.gov/fedreg and the Government Printing Office's database at: http://www.access.gpo.gov/nara.

Background

The FHWA, in cooperation with the Kansas Department of Transportation (KDOT), will prepare an environmental impact statement (EIS) on a proposal to improve U.S. Highway 59 in Douglas and Franklin Counties, Kansas. The proposed project would involve the improvement of the existing U.S. 59 corridor between the cities of Lawrence and Ottawa, a distance of about 27.2 kilometers (17 miles) in length. The KDOT has held three public information meetings on proposed improvements to U.S. 59. An environmental assessment was prepared for a proposed limited access facility on new alignment. The high level of public concern expressed and the potential for significant impacts has led to the decision to prepare an EIS.

Improvements to the corridor are considered necessary to provide for the existing and projected traffic demands and to improve safety. Also, under consideration in this proposal is a new connection with the existing Interstate Highway 35 near Ottawa. Alternatives under consideration include (1) taking no action; (2) improving the existing alignment; and (3) construction on a new alignment.

Comments are being solicited from appropriate Federal, State, and local agencies, and from private organizations and citizens who have interest in this proposal. A public hearing will be held once the draft EIS is completed. Public notice will be given of the time and place of the hearing. The draft EIS will be available for public and agency review and comment prior to the public hearing. The FHWA has determined that a formal scoping meeting is not necessary.

Comments and/or suggestions from all interested parties are requested to ensure that the full page of issues related to this proposed action, and significant environmental issues in particular, are identified and reviewed. Comments or questions concerning this proposed action and the EIS should be directed to the FHWA or the KDOT at the address provided above.

Authority: 23 U.S.C. 315; 49 CFR 1.48.

Issued on March 16, 2000.
David R. Geiger,
Division Administrator, Kansas Division, Federal Highway Administration, Topeka, Kansas.

[FR Doc. 00-8427 Filed 4-5-00; 8:45 am]

BILLING CODE 4910-22-M